DEPARTMENT OF HEALTH AND HUMAN SERVICES

Centers for Disease Control and Prevention

Reorganization of the National Center for Environmental Health

AGENCY: Centers for Disease Control and Prevention (CDC), the Department of Health and Human Services (HHS).

ACTION: Notice.

SUMMARY: CDC has modified its structure. This notice announces the reorganization of the National Center for Environmental Health (NCEH). NCEH retitled three branches and established the Environmental Public Health Tracking Branch.

DATES: This reorganization was approved by the Director of CDC on January 26, 2024 and became effective January 26, 2024.

FOR FURTHER INFORMATION CONTACT: D'Artonya Graham, Office of Strategic Business Initiatives, Office of the Chief Operating Officer, Office of the Director, Centers for Disease Control and Prevention, 1600 Clifton Road NE, MS TW-2, Atlanta, GA 30329; Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 69188-69190, dated October 5, 2023) is amended to reflect the reorganization of the National Center for Environmental Health, Centers for Disease Control and Prevention. Specifically, the changes are as follows:

I. Under Part C, Section C-B, Organization and Functions, make the following changes:

• Update the functional statements and retitle all references to the Asthma and Community Health Branch (CNCC) to the Asthma and Air Quality Branch (CNCC)

• Update the functional statements and retitle all references to the Lead Poisoning Prevention and Environmental Health Tracking Branch (CNCD) to the Lead Poisoning Prevention and Surveillance Branch (CNCD)

• Update the functional statements and retitle the Emergency Management, Radiation, and Chemical Branch (CNCE) to the Emerging Environmental Hazards and Health Effects Branch (CNCE)

II. Under Part C, Section C-B, Organization and Functions, after the Emerging Environmental Hazards and Health Effects Branch insert the following organizational unit:

• Environmental Public Health Tracking Branch (CNCG)

III. Under Part C, Section C-B, Organization and Functions, insert the following:

Asthma and Air Quality Branch (CNCC) (1) develops, implements, and evaluates asthma programs and strategies that are part of the National Asthma Control Program to reduce asthma morbidity and mortality; (2) conducts epidemiologic research and investigations of asthma morbidity and mortality; (3) develops program, conducts epidemiologic analysis and supports other activities to address social determinants of health related to asthma disparities; (4) supports surveillance activities for asthma, and other respiratory diseases, as appropriate, to quantify burden and guide programs; (5) identifies the evidence for, promotes, and tracks interventions that reduce the burden of asthma, focusing on populations with a disproportionate burden of the disease; (6) develops and disseminates training, tools, communication products, and other resources to strengthen and sustain asthma control activities and technical capacity among national, state, tribal, local, territorial and other program partners; (7) provides technical consultation to state, local, private, international, and other federal agencies on asthma control, surveillance, epidemiology, and evaluation (including economic evaluation; (8) disseminates and promotes information from surveillance and health studies related to asthma control; (9) conducts epidemiologic research and investigations of the potential health effects of ambient air pollutants, including wildfire smoke; (10) designs and evaluates behavioral, communication, policy, technological, and community design interventions to reduce exposures to air pollution and improve health; (11) supports activities to reduce indoor air pollution; (12) develops and coordinates training and decision support tools to strengthen and sustain air pollution activities and technical capacity among national, state, tribal, local, and territorial program partners; (13) provides technical consultation to federal, state, tribal, local, territorial, private, and international agencies on environmental issues related to air pollutants; (14) disseminates, communicates, and promotes information to protect communities from adverse health impacts from air pollution; and (15) coordinates asthma- and air quality-related activities throughout CDC.

Lead Poisoning Prevention and Surveillance Branch (CNCD) (1) establishes, monitors, and evaluates goals and objectives for a national childhood lead poisoning prevention program and blood lead surveillance system for CDC; (2) develops and implements an integrated national program to eliminate childhood lead poisoning through partnerships with U.S. Department of Housing and Urban Development, U.S. Environmental Protection Agency, other federal agencies, and national organizations; (3) coordinates efforts of federal, state, local, tribal and territorial agencies that have programs related to childhood lead exposure and prevention to achieve national objectives and performance standards related to eliminating childhood lead poisoning; (4) supports state, local, tribal and territorial health agencies, and other stakeholders, in planning, developing, and implementing childhood lead poisoning prevention programs and blood lead surveillance systems; (5) collects, analyzes, and disseminates data on blood lead levels in U.S. children; (6) develops, conducts, and evaluates epidemiologic research on childhood lead poisoning including risk factors, geographic distribution, and trends; (7) works collaboratively across, NCEH, CDC and with external partners to build capacity for science, innovation, and translation research to accelerate progress towards national lead poisoning prevention goals; (8) develops and implements, in concert with other federal agencies, national organizations, and other appropriate groups, a training agenda for public health professionals related to childhood lead poisoning prevention and surveillance activities; (9) administers the CDC/NCEH Federal Advisory Committee relevant to lead poisoning prevention; and (10) coordinates lead poisoning prevention and surveillance activities through the Division, Center, and with other components of CDC and external stakeholders, as appropriate.

Emerging Environmental Hazards and Health Effects Branch (CCNCE) (1) promotes public health protection from environmental hazards and exposures, as well as environmental health disasters—both natural and technological—through education, training, and information dissemination to the general public as well as the public health and clinician communities; (2) serves as the CDC lead to prepare for and respond to natural, nuclear/radiological, and chemical emergencies; (3) provides CDC leadership to protect public health and safety through independent oversight of the Army destruction mission including stockpiled weapons and recovered chemical weapons; (4) addresses environmental health emerging hazards by conducting surveillance, public health response, and environmental epidemiologic investigations and studies; (5) responds to outbreak or cluster investigations of non-infectious etiology; and (6) builds the environmental epidemiology capacity of domestic and international public health partners.

Environmental Public Health Tracking Branch (CNCG) (1) develops and maintains the National Environmental Public Health Tracking Network, the cornerstone of the Environmental Public Health Tracking Program, which connects environmental and health data at the national, state, and local levels to drive innovative, cutting-edge programs and solutions that protect and improve the health of communities across the country; (2) collects, integrates, analyzes, and disseminates non-infectious disease, environmental, and sociodemographic data from a collective of partners at the national, state, and local levels; (3) delivers health, exposure, and hazards data, information summaries, and tools to enable analysis, visualization, and reporting of insights drawn from data; (4) provides timely, local, accessible information that drives actions to improve community health; and (5) empowers environmental and public health practitioners, healthcare providers, community members, policy makers, and others to make information-driven decisions that affect their health.

Delegations of Authority

All delegations and redelegations of authority made to officials and employees of affected organizational components will continue in them or their successors pending further redelegation, provided they are consistent with this reorganization.

(Authority: 44 U.S.C. 3101)

Robin Bailey, Jr.,
Chief Operating Officer, Centers for Disease Control and Prevention.

[FR Doc. 2024-02018 Filed 1-31-24; 8:45 am]

BILLING CODE 4163-18-P